DEPARTMENT OF COMMERCE

Patent and Trademark Office

37 CFR Part 42

[Docket No. PTO-C-2020-0055]

Request for Comments on Discretion To Institute Trials Before the Patent Trial and Appeal Board

AGENCY: Patent Trial and Appeal Board, United States Patent and Trademark Office, Department of Commerce.

ACTION: Request for comments; extension of comment period.

SUMMARY: The United States Patent and Trademark Office (USPTO or Office) published a request for comments in the Federal Register on October 20, 2020, seeking public comment on considerations for instituting trials before the Office under the Leahy Smith America Invents Act (AIA). Through this document, the USPTO is extending the period for public comment until December 3, 2020.

DATES: Comment date: Written comments must be received on or before December 3, 2020.

ADDRESSES: For reasons of government efficiency, comments must be submitted through the Federal eRulemaking Portal at www.regulations.gov. To submit comments via the portal, enter docket number PTO-C-2020-0055 on the home page and click “search.” The site will provide a search results page listing all documents associated with this docket. Find a reference to this Request for Comments and click on the “Comment Now!” icon, complete the required fields, and enter or attach your comments. Attachments to electronic comments will be accepted in ADOBE® portable document format or MICROSOFT WORD® format. Because comments will be made available for public inspection, information that the submitter does not desire to make public, such as an address or phone number, should not be included in the comments.

Visit the Federal eRulemaking Portal (www.regulations.gov) for additional instructions on providing comments via the portal. If electronic submission of comments is not feasible due to a lack of access to a computer and/or the internet, please contact the USPTO using the contact information below for special instructions regarding how to submit comments by mail or by hand delivery, based on the public's ability to obtain access to USPTO facilities at the time.

FOR FURTHER INFORMATION CONTACT: Scott C. Weidenfeller, Vice Chief Administrative Patent Judge, by telephone at 571-272-9797.

SUPPLEMENTARY INFORMATION: On October 20, 2020, the USPTO published a document in the Federal Register requesting public input on considerations for instituting trials before the Office under the Leahy-Smith America Invents Act (AIA). See Request for Comments on Discretion to Institute Trials Before the Patent Trial and Appeal Board, 85 FR 66502 (Oct. 20, 2020). In that document, the USPTO indicated it is considering the codification of its current policies and practices, or the modification thereof, through rulemaking and wished to gather public comments on the Office's current approach and on various other approaches suggested to the Office by stakeholders. To assist in gathering public input, the USPTO published questions, and sought focused public comments, on appropriate considerations for instituting AIA trials. The document requested public comments on or before November 19, 2020.

Through this document, the USPTO is extending the period for public comment until December 3, 2020, to give interested members of the public additional time to submit comments. All other information and instructions to commenters provided in the October 20, 2020, notice remain unchanged. Previously submitted comments do not need to be resubmitted.

Andrei Iancu,
Under Secretary of Commerce for Intellectual Property and Director of the United States Patent and Trademark Office.

[FR Doc. 2020-25490 Filed 11-17-20; 8:45 am]

BILLING CODE 3510-16-P